DEPARTMENT OF HOMELAND SECURITY

Coast Guard

33 CFR Part 117

[Docket No. USCG-2015-0037]

Drawbridge Operation Regulations; Narrow Bay, Suffolk County, NY

AGENCY: Coast Guard, DHS.

ACTION: Notice of deviation from drawbridge regulation.

SUMMARY: The Coast Guard has issued a temporary deviation from the operating schedule that governs the operation of the Smith Point Bridge across Narrow Bay, mile 6.1, at Suffolk County, New York. This deviation is necessary to provide public safety during a public event, the Smith Point Triathlon. This deviation allows the bridge to remain closed for two hours on Sunday August 2, 2015, to facilitate the Smith Point Triathlon.

DATES: This deviation is effective from 7 a.m. through 9 a.m. on August 2, 2015.

ADDRESSES: The docket for this deviation, [USCG-2015-0037] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this temporary deviation, call or email Ms. Judy K. Leung-Yee, Project Officer, First Coast Guard District, telephone (212) 514-4330, judy.k.leung-yee@uscg.mil. If you have questions on viewing the docket, call Cheryl Collins, Program Manager, Docket Operations, telephone (202) 366-9826.

SUPPLEMENTARY INFORMATION: The Smith Point Bridge across Narrow Bay, mile 6.1, at Suffolk County, New York, has a vertical clearance in the closed position of 18 feet at mean high water and 19 feet at mean low water. The existing bridge operating regulations are found at 33 CFR 117.799(d).

The waterway is transited by seasonal recreational vessels of various sizes.

The Event Power Triathlon Committee and the owner of the bridge, Suffolk County Department of Public Works, Parks Department, requested a temporary deviation from the normal operating schedule to facilitate public safety during the running of the Smith Point Triathlon.

Under this temporary deviation the Smith Point Bridge may remain in the closed position for two hours between 7 a.m. and 9 a.m. on Sunday August 2, 2015.

There are no alternate routes for vessel traffic; however, vessels that can pass under the closed draw during this closure may do so at all times. The bridge may be opened in the event of an emergency.

The Coast Guard will inform the users of the waterways through our Local and Broadcast Notice to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: February 23, 2015.
C.J. Bisignano,
Supervisory Bridge Management Specialist, First Coast Guard District.

[FR Doc. 2015-05302 Filed 3-6-15; 8:45 am]

BILLING CODE 9110-04-P